DEPARTMENT OF COMMERCE

National Oceanic and Atmospheric Administration

50 CFR Part 660

[ID.010303C]

Fisheries Off West Coast States and in the Western Pacific;Pacific Coast Groundfish Fishery; Application for an Exempted Fishing Permit

AGENCY: National Marine Fisheries Service (NMFS), National Oceanic and Atmospheric Administration (NOAA), Commerce.

ACTION: Notice of receipt of three exempted fishing permits (EFP) applications; request for comments.

SUMMARY: NMFS announces the receipt of three EFP applications from the Washington State Department of Fish and Wildlife. If awarded, these EFPs would allow vessels with valid Washington State delivery permits to harvest and retain federally managed groundfish in closed rockfish conservation areas and to retain federally managed groundfish species in excess of cumulative trip limits. These activities are otherwise prohibited. Vessels fishing under these EFPs will be required to carry either a State-sponsored sampler or a Federal observer while conducting EFP fishing. Samplers/observers will collect catch and effort data and retain specimens from catch that is generally discarded at sea and is otherwise not available at the shoreside processing facility. These EFP proposals are intended to promote the objectives of the Pacific Coast Groundfish Fishery Management Plan (FMP) by providing much needed data on total catch and incidental catch rates by fishing strategy.

DATES: Comments must be received by February 12, 2003.

ADDRESSES: Copies of the EFP applications are available from Becky Renko Northwest Region, NMFS, 7600 Sand Point Way N.E., Bldg. 1, Seattle, WA 98115-0070.

FOR FURTHER INFORMATION CONTACT: Becky Renko (206)526-6110 or Carrie Nordeen (206) 526-6144.

SUPPLEMENTARY INFORMATION: This action is authorized by the FMP and implementing regulations at 50 CFR 600.745 and 50 CFR 660.350.

On December 12, 2002, NMFS received three completed EFP applications from the Washington State Department of Fish and Wildlife. The primary purpose of the exempted fishing activity is to measure bycatch rates for overfished and other rockfish species associated with the fishing strategies currently used to harvest dogfish shark, walleye pollock, and arrowtooth flounder.

Each EFP requires that the participating vessels carry a State-sponsored sampler or Federal groundfish observer to collect data from which incidental catch rates and total catch of various species and species groups can be estimated. Samplers/observers would also collect and retain specimens, that may not be kept under current regulations. Because the retention of such fish is prohibited by Federal regulations, an EFP is needed to allow State-sponsored samplers to retain these specimens. To the extent possible, data provided by the State-sponsored samplers will be compatible with that collected by the NMFS coastwide observer program. The information gathered through these EFPs may lead to future rulemakings.

At the Pacific Fishery Management Council's (Council) November 2002, meeting in Foster City, CA, the applicants presented the EFP applications. The Council considered the applications and recommended that NMFS issue the EFPs for the proposed activity. All EFP harvests are expected to be within set asides optimum yields (OYs) for 2003 EFP harvests and, therefore, no OY is expected to be exceeded. Copies of the applications are available for review from NMFS (see ADDRESSES).

Spiny Dogfish (Squalus acanthias)

Spiny dogfish is an abundant and important species in the groundfish fishery off Washington State. Fixed gear is used to directly harvest spiny dogfish. For 2003, fishing with fixed gear in areas where spiny dogfish have historically been harvested will be prohibited because the areas fall within the Non-trawl Rockfish Conservation Area. Rockfish conservation areas are large-scale depth-related areas where low abundance groundfish species are commonly found. Little is known about the bycatch catch rates of other groundfish, including overfished species, by vessels specifically targeting spiny dogfish. However, fishers believe that spiny dogfish can be harvested with much lower bycatch rates than are currently assumed.

If the permit is issued, this EFP will allow approximately 3 vessels, which have historically harvested spiny dogfish, to use fixed gear to directly harvest spiny dogfish and to retain and land groundfish in excess of trip limits taken in a Non-trawl Rockfish Conservation Area. These activities are otherwise prohibited by Federal regulations. Fishing under the proposed EFP would occur between February 1 and May 31, 2003. Vessels would be required to retain all groundfish and the proceeds from the sale of groundfish in excess of current trip limits, other than spiny dogfish, would be forfeited to the State of Washington. All fishing by participating vessels, EFP and non-EFP fishing, during the effective dates of the EFP would be restricted to waters north of 46°16′N. lat.

There will be no monthly limit on the harvest of spiny dogfish, but the harvest of spiny dogfish will be constrained by limits for yelloweye and canary rockfish. If any of the individual limits are reached for an overfished species, the EFP will be terminated. If a permitted vessel harvests 125 lbs (56.7 kg) of canary rockfish or 500 lbs (227 kg) of yelloweye rockfish, the vessels cannot fish in the Non-trawl Rockfish Conservation Area for the rest of that month.

Data collected during this project are expected to have a broad significance to the management of the groundfish fishery by providing much needed information on: (1) total catch by vessels directly harvesting spiny dogfish, (2) catch rates of incidentally caught species, including canary, yelloweye and other rockfish by fishing location, (3) age structure data that is otherwise not available, and (4) the feasibility of a full retention program.

Walleye Pollock (Theragra chalcogramma)

In July 2002, three vessels used midwater trawl gear to harvest walleye pollock off the northern coast of Washington State. The walleye pollock stock is primarily found off the west coast of Vancouver island. However, harvestable amounts of walleye pollock move south into Washington waters every 5 to 7 years. Historical harvests of walleye pollock occurred in the area which was designated as the Trawl Rockfish Conservation Area in the 2003 emergency rule (68 FR 544, January 6, 2003). When fishers harvest walleye pollock, which is not a groundfish, they incidentally encounter groundfish such as Pacific whiting, yellowtail rockfish and spiny dogfish.

An EFP is necessary to allow walleye pollock vessels to fish within the Trawl Rockfish Conservation Area with midwater trawl gear and to delay complete sorting of their catch until the point of offloading. An EFP is needed to delay sorting because regulations prohibit the retention of groundfish (except spiny dogfish) taken in a closed area or the retention of groundfish in excess of cumulative trip limits if taken outside the conservation areas.

If the permit is issued, approximately 3 vessels are expected to fish under this EFP. Vessels would be required to retain all groundfish, except spiny dogfish, and the proceeds from the sale of groundfish landed in excess of trip limits would be forfeited to the State of Washington. Fishing under the proposed EFP would occur between February 1 and June 30, 2003. All fishing by participating vessels, EFP and non-EFP fishing, during the effective dates of the EFP would be restricted to waters north of 46°16′ N. lat.

There will be no monthly limit on the harvest of walleye pollock, but the harvest of pollock will be constrained by limits for widow and canary rockfish. If any of the individual limits are reached for an overfished species, the EFP will be terminated.

Data collected during this project are expected to have a broad significance to the management of the groundfish fishery by providing much needed information on: (1) total catch of groundfish in the walleye pollock fishery, (2) catch rates of incidentally caught groundfish species by fishing location, and (3) the feasibility of a full retention program.

Arrowtooth Flounder (Atheresthes stomias)

Fishing for arrowtooth flounder, which is an abundant and commercially important groundfish species off Washington, is constrained by efforts to rebuild canary rockfish, an overfished species. Fishers who have historically targeted arrowtooth flounder believe that the fishery can be prosecuted with a much lower rockfish bycatch rate than is currently assumed. Similar EFPs, that yielded valuable data on the arrowtooth flounder fishery, were issued in 2001 and 2002.

If the permit is issued, this EFP would allow approximately 6 vessels, which have historically participated in the arrowtooth flounder fisheries to: fish for arrowtooth flounder within a restricted rockfish conservation area; retain groundfish taken within a rockfish conservation area; and retain and sell arrowtooth flounder and petrale sole in excess of cumulative trip limits. These activities are otherwise prohibited by Federal regulations. Other than the proceeds from the sale of arrowtooth flounder and petrale sole, proceeds from the sale of rockfish in excess of current trip limits would be forfeited to the State of Washington.

There will be no monthly limit on the harvest of arrowtooth flounder, but the harvest of arrowtooth flounder will be constrained by canary rockfish. If any of the individual limits are reached for an overfished species, the EFP will be terminated.

Fishing under the proposed EFP would occur between May 1 and August 31, 2003. All fishing by participating vessels, EFP and non-EFP fishing, during the effective dates of the EFP would be restricted to waters north of 46°16′ N. lat.

Data collected during this project are expected to have a broad significance to the management of the groundfish fishery by providing much needed information on: (1) total catch in the northern flatfish fisheries, (2) catch rates of incidentally caught species, including canary, yelloweye and darkblotched rockfish by fishing location, and (3) age structure data that is otherwise not available.

Authority: 16 U.S.C. 1801 et seq.

Dated: January 22, 2003.
Richard W. Surdi,
Acting Director,Office of Sustainable Fisheries, National Marine Fisheries Service

[FR Doc. 03-1909 Filed 1-27-03; 8:45 am]

BILLING CODE 3510-22-S